OFFICE OF SCIENCE AND TECHNOLOGY POLICY

NATIONAL ECONOMIC COUNCIL

Commercialization of University Research Request for Information

ACTION: Notice.

SUMMARY: In September 2009, President Obama released his national innovation strategy, which is designed to promote sustainable growth and the creation of quality jobs. Two key parts of this strategy are to increase support for both the fundamental research at our nation's universities and the effective commercialization of promising technologies.

The Federal government supports university-based research for a variety of reasons. Expanding the frontiers of human knowledge is a worthy objective in its own right. Basic research that is not motivated by any particular application can have a transformative impact. As President Obama noted in his National Academy speech, “It was basic research in the photoelectric field that would one day lead to solar panels. It was basic research in physics that would eventually produce the CAT scan. The calculations of today's GPS satellites are based on the equations that Einstein put to paper more than a century ago.”

Yet it is often transferring viable research discoveries to the marketplace that can pose the greatest challenge to innovators and entrepreneurs. As a result, the Administration is interested in working with all stakeholders (including universities, companies, Federal research labs, entrepreneurs, investors, and non-profits) to identify ways in which we can increase the economic impact of Federal investment in university R&D and the innovations being fostered in Federal and private proof of concept centers (POCCs). This RFI is designed to collect input from the public on ideas for promoting the commercialization of Federally funded research. The first section of the RFI seeks public comments on how best to encourage commercialization of university research. The second section of the RFI seeks public comments on whether POCCs can be a means of stimulating the commercialization of early-stage technologies by bridging the “valley of death.”

Background: Federally-funded research has contributed to economic growth, job creation and improvements in our quality of life. In the information and communications sector, for example, university-based research has played a key role in the development of technologies such as the Internet, electronic design automation, mass storage, speech recognition, parallel computing, computer graphics, and workstations. In the life sciences, university research has led to new tools to diagnose, prevent and treat diseases.

With respect to POCCs, innovative technologies developed at POCCs arise primarily from not-for profit research institutions such as hospitals and foundations as well as from Federal laboratories and the private sector. The Federal Government funds much of this early-stage research and also provides funding and incentives to entrepreneurial businesses to bring new technologies to the marketplace. For example, the NSF Engineering Research Centers Program provides core funds to move fundamental research through proof-of-concept testing and additional incentive funds to speed the translation of research further into the realm of project development in partnership with start-ups and other small businesses. State and local governments also provide resources to promote new business development. Despite these resources, too many technologies fail to cross the “valley of death” of product development between the research laboratory and commercialization by the private sector.

The Administration has already taken a number of steps to promote and encourage the commercialization of federally funded research:

• The President's FY11 budget proposes to double the National Science Foundation's Partnership for Innovation program. This will allow the NSF to provide grants that will increase the engagement of faculty and students across all disciplines in the innovation and entrepreneurship process; increase the impact of the most promising university innovations through commercialization, industry alliances, and start-up formation, and develop a regional community that supports the “innovation ecosystem” around universities.

• On February 24, 2010, led by Commerce Secretary Gary Locke, the Administration organized a forum to explore issues related to commercialization of university research.

• Dr. Francis Collins, Director of the National Institutes of Health, has indicated that translational medicine is one of his top five priorities. For example, NIH is making it easier for academic researchers to move from fundamental research to the creation of assays that can be used to screen hundreds of thousands of candidates for drug development.

• Seven agencies are providing almost $130 million to support an Energy Regional Innovation Cluster in energy efficient building systems design. In addition to funding research, this will provide support for business development, public infrastructure, education, and workforce development.

The National Economic Council and the Office of Science and Technology Policy will use the input from this RFI to shape the Administration's future policy on the commercialization of federally funded research.

RFI Guidelines: Responses to this RFI should be submitted by 11:59 p.m. Eastern Time on April 26, 2010. Responses to this RFI must be delivered electronically as an attachment to an e-mail sent to NEC_General@who.eop.gov with the subject line “Commercialization of University Research.” Responses to this notice are not offers and cannot be accepted by the Government to form a binding contract or issue a grant. Information obtained as a result of this RFI may be used by the government for program planning on a non-attribution basis. Do not include any information that might be considered proprietary or confidential.

FOR FURTHER INFORMATION CONTACT: Any questions about the content of this RFI should be sent to NEC_General@who.eop.gov with the subject line “RFI Questions.”

RFI Response Instructions: The White House Office of Science and Technology Policy and the National Economic Council are interested in responses that address one or more of the following topics:

Part I: With Respect to University Research, Promising Practices and Successful Models

What are some promising practices and successful models for fostering commercialization and diffusion of university research? What is the evidence that these approaches are successful? How could these promising practices be more widely adopted? Examples include, but are not limited to:

• Business plan competitions

• Coursework, training programs, and experiential learning that give faculty and students the skills they need to become entrepreneurs

• Programs that encourage multidisciplinary collaboration between faculty and students in different disciplines, such as science, engineering, business, and medicine

• Technology transfer and sponsored project offices that can negotiate agreements with companies in a timely fashion, and that have a mandate to maximize the impact of their university's research as opposed to maximizing licensing income

• “Templates” for agreements on issues such as intellectual property, sponsored research, material transfer agreements, and visiting industry fellows that can reduce the time and cost required to commercialize university research and form university-industry partnerships

• Models for promoting open innovation and an intellectual property “commons”

• University-industry collaborations that increase investment in pre-competitive research and development that is beyond the time horizon of any single firm

• University participation in regional economic development initiatives and efforts to strengthen “clusters”

• Supportive university policies such as “industrial leave” that allows faculty members to work for a new or existing company to commercialize their research

Bootstrapping Innovation Ecosystems

Some universities participate in regional innovation “ecosystems” with dense concentrations of venture and angel investors, experienced entrepreneurs and managers, and a mix of large and small firms. These universities also have faculty who have been involved in commercialization of research and entrepreneurship, and can serve as mentors and role models to faculty or students. How can universities and their external partners expand their ability to commercialize research in the absence of these favorable conditions?

Metrics for Success

What are appropriate metrics for evaluating the success or failure of initiatives to promote commercialization of university research?

Changes in Public Policy and Funding

What changes in public policy and research funding should the Obama Administration consider that would promote commercialization of university research? How could existing programs be modified or augmented to encourage commercialization of university research?

Part II: With Respect to POCCs

Underlying Conditions and Infrastructure

• What underlying conditions are necessary to enhance the success of a POCC?

○ How can regions with less significant angel and VC investment cultures support POCCs and start-up business activity? Can current POCC successes transfer to other regions and universities?

○ How important is active participation by strong local business community in a POCC? Describe how you integrate them into the POCC ecosystem?

• How can Federal agencies, research institutions, Federal researchers, and the private sector work together to foster more successful POCCs that accelerate commercialization into the marketplace?

• How can we leverage NSF's and industry's investment in Engineering Research Centers and Industry/University Cooperative Research Centers to speed the development and commercialization of new technology that has already reached the proof-of-concept stage?

• In addition to Federal resources, what existing state, regional or local government funded resources or programs supplement the POCCs in bridging the “valley of death”?

○ Describe any alternative sources of private funding/financing that might be available such as not for profit entities or charitable foundations.

Successful Practices

• What are examples of successful practices?

• What are the key ingredients responsible for this success?

• Is there any evidence that indicates POCCs are an effective mechanism to foster local or regional economic development and job creation (e.g. research related to the needs of particular clusters, participating in regional networks, making shared facilities available to local firms, addressing the need for skilled labor in particular sectors)?

• What lessons can be learned from other successful models such as technology-based economic development organizations that support POCCs?

• Describe educational programs associated with POCCs that better prepare students to work in entrepreneurial environments?

• To what extent do interdisciplinary services (legal, accounting, business plan training) contribute to POCCs successes?

• At POCCs, what lessons have been learned regarding: Leadership and team composition, project selection, optimum scale of effort, importance of brick-and-mortar facilities, geographic scope of participation, and multi-agency involvement?

Success Metrics

• How do you define the success of a POCC?

○ What are the relevant inputs, outputs, outcomes, and impacts for success metrics?

○ What is the time period needed to measure success as applied to different types of technologies?

• Would the appropriate success metrics for a POCC affiliated with a university be different than one affiliated with a Federal research lab?

Other Questions

• For those institutions with POCCs, how would you describe what you do and how you do it?

• How can research and development assets supported by the Federal Government be leveraged to support POCCs, such as a multi-agency, multi-disciplinary database of supported research?

• How could such assistance also bolster State and local government programs?

• What other administrative policies/practices should the Administration consider modifying, adopting or implementing to enhance the success prospects of POCCs, including streamlining reporting requirements?

James Kohlenberger,
Chief of Staff, Office of Science and Technology Policy.
Diana Farrell,
Deputy Assistant to the President for Economic Policy, National Economic Council.

[FR Doc. 2010-6606 Filed 3-24-10; 8:45 am]

BILLING CODE P